DEPARTMENT OF HOMELAND SECURITY

[Docket No. DHS-2015-0058]

Chemical Security Assessment Tool (CSAT)

AGENCY: National Protection and Programs Directorate, DHS.

ACTION: 60-Day notice and request for comments; Revision of Information Collection Request: 1670-0007.

SUMMARY: The Department of Homeland Security (DHS or the Department), National Protection and Programs Directorate (NPPD), Office of Infrastructure Protection (IP), Infrastructure Security Compliance Division (ISCD), will submit the following Information Collection Request to the Office of Management and Budget (OMB) for review and clearance in accordance with the Paperwork Reduction Act of 1995 (Pub. L. 104-13, 44 U.S.C. Chapter 35).

DATES: Comments are encouraged and will be accepted until January 19, 2016. This process is conducted in accordance with 5 CFR 1320.8.

ADDRESSES: Interested persons are invited to submit comments on the proposed information collection through the Federal eRulemaking Portal at http://www.regulations.gov. All submissions received must include the words “Department of Homeland Security” and the docket number DHS-2015-0058. Except as provided below, comments received will be posted without alteration at http://www.regulations.gov, including any personal information provided.

Comments that include trade secrets, confidential commercial or financial information, Chemical-terrorism Vulnerability Information (CVI),¹ Sensitive Security Information (SSI),² or Protected Critical Infrastructure Information (PCII) ³ should not be submitted to the public regulatory docket. Please submit such comments separately from other comments in response to this notice. Comments containing trade secrets, confidential commercial or financial information, CVI, SSI, or PCII should be appropriately marked and packaged in accordance with applicable requirements and submitted by mail to the DHS/NPPD/IP/ISCD CFATS Program Manager at the Department of Homeland Security, 245 Murray Lane SW., Mail Stop 0610, Arlington, VA 20528-0610. Comments must be identified by docket number DHS-2015-0058.

¹ For more information about CVI see 6 CFR 27.400 and the CVI Procedural Manual at http://www.dhs.gov/xlibrary/assets/chemsec_cvi_proceduresmanual.pdf.

² For more information about SSI see 49 CFR part 1520 and the SSI Program Web page at http://www.tsa.gov.

³ For more information about PCII see 6 CFR part 29 and the PCII Program Web page at http:// www.dhs.gov/protected-critical-infrastructure-information-pcii-program.

SUPPLEMENTARY INFORMATION: Section 550 of the Homeland Security Appropriations Act of 2007, Public Law 109-295 (2006), provided the Department with the authority to regulate the security of high-risk chemical facilities. On April 9, 2007, the Department issued an Interim Final Rule (IFR), implementing this statutory mandate at 72 FR 17688. In December 2014, the President signed into law the Protecting and Securing Chemical Facilities from Terrorist Attacks Act of 2014 (the CFATS Act of 2014), Public Law 113-254, which authorized the Chemical Facility Anti-Terrorism Standards program in the Homeland Security Act of 2002, as amended, Public Law 107-296.⁴

⁴ Section 2 of the CFATS Act of 2014 adds a new Title XXI to the Homeland Security Act of 2002. Title XXI contains new sections numbered 2101 through 2109. Citations to the Homeland Security Act of 2002 throughout this document reference those sections of Title XXI. In addition to being found in amended versions of the Homeland Security Act of 2002, those sections of Title XXI can also be found in section 2 of the CFATS Act of 2014, or in 6 U.S.C. 621-629.

The CFATS regulations (available at 6 CFR part 27) govern the security at covered chemical facilities that have been determined by the Department to be at high risk for terrorist attack. See 6 CFR part 27. CFATS represents a national-level effort to minimize terrorism risk to such facilities. Its design and implementation balance maintaining economic vitality with securing facilities and their surrounding communities. The regulations were designed, in collaboration with the private sector and other stakeholders, to take advantage of protective measures already in place and to allow facilities to employ a wide range of tailored measures to satisfy the regulations' Risk-Based Performance Standards (RBPS).

The Department collects the core regulatory data necessary to implement CFATS through the portions of the Chemical Security Assessment Tool (CSAT) covered under this collection. For more information about CFATS and CSAT, you may access www.dhs.gov/chemicalsecurity. The current information collection for CSAT (IC 1670-0007) will expire on April 30, 2016.⁵

⁵ The current information collection for CSAT may be found at http://www.reginfo.gov/public/do/PRAViewICR?ref_nbr=201303-1670-001

The Department's Methodology in Estimating the Burden for the Top-Screen

Number of Respondents

The current information collection estimated that 2,500 respondents would submit a Top-Screen annually. That estimate, which is taken from the 2007 CFATS Regulatory Assessment,⁶ was derived by averaging the estimated number of respondents that would complete a Top-Screen during calendar year (CY) 2012-2014 that had not previously submitted a Top-Screen. In actuality, during CY 2012-2014, there were 2,574 respondents (i.e., chemical facilities of interest) that submitted a Top-Screen for the first time. This information is displayed in Table 1 below:

⁶ See Section 3 and Table 6 of the 2007 CFATS Regulatory Assessment, http://www.regulations.gov/#!documentDetail;D=DHS-2006-0073-0116.

Table 1—Top-Screen Respondents
[Estimated versus actual]
| Year 1 CY 2012 | Year 2 CY 2013 | Year 3 CY 2014 | Total | Average annual
Estimated number of Top-Screen respondents in the current information collection | 2,500 | 2,500 | 2,500 | 7,500 | 2,500.
Total Number of Respondents | 412 | 1,434 | 728 | 2,574 | 858 (rounded).

Because the annual average of 858 respondents is less than half of the annual number of respondents estimated in the 2007 CFATS Regulatory Evaluation for CY 2012-2014 (i.e., 2,500), the Department will revise the estimated number of respondents for this instrument to 1,000 respondents annually.

Estimated Time per Respondent

In the current information collection, the estimated time per respondent to prepare and submit a Top-Screen is 11.25 hours. This estimate assumed that the majority of the burden associated with the Top-Screen was outside of the Department's ability to quantitatively measure. However, by using the data collected during CY 2012-2014, the Department was able to measure the duration a respondent was logged into the Top-Screen application. Based upon actual historical data, the Department determined that 95% percent of respondents, who submitted Top-Screens, were logged into the CSAT Top-Screen application for no more than 1.2 hours (72 minutes). In response to previous comments provided by stakeholders in the last round of public comments on this Information Collection, the Department estimates that for every hour a respondent is logged into the CSAT Top-Screen application, the respondent spends an average of four hours in preparation.⁷ Therefore, for the purposes of this notice, the Department's estimated time per respondent to submit a Top-Screen is 6 hours [1.2 hours + (1.2 hours × 4 hours)]. To account for the anticipated resubmission by respondents, the Department further estimates that 50 percent of the respondents will submit two Top-Screens.⁸

⁷ The comments and the Department's response are described in the 30-day notice the Department published for this Information Collection in March of 2013 (http://www.reginfo.gov/public/do/PRAViewICR?ref_nbr=201303-1670-001)

⁸ The Department analyzed the amount of time a respondent was logged into CSAT when submitting an initial Top-Screen versus an additional Top-Screen and determined that while there was a slight difference in the burden per response (i.e., Additional Top-Screens took on average 15% less time). The Department, for the purposes of this notice, opted not to break out the initial and subsequent Top-Screens to analyze the minimal burden difference.

The Department expects to implement a revised Top-Screen with the approval of this information collection. The Department expects that as a result of the revised Top-Screen respondents will spend about approximately the same amount of time logged into the CSAT Top-Screen application as Top-Screen users have, historically. The revised Top-Screen will: (1) Streamline the entry of information about chemicals of interest (COI) into CSAT; (2) add new questions to assist respondents in identifying the COI related security issue(s); (3) include questions currently asked in the current Security Vulnerability Assessment (SVA) and Alternative Security Program (ASP) Instrument; and (4) utilize geospatial technology to identify area of highest quantity.

The Department also collects supporting documentation from approximately half of the respondents. Based upon the Department's day-to-day informal discussions with respondents, the Department believes that a reasonable burden for the gathering and provision of supporting documentation is 0.25 hours.

Annual Burden Hours

The annual burden hours for the Top-Screen is [6 hours × 1,000 respondents × 1.5 responses per respondent], which equals 9,000 hours. The annual burden hours to submit supporting documentation is 125 hours [0.25 hours × 500 respondents × one response per respondent].

Therefore, the Department estimates that the total annual burden hours for the Top-Screen is 9,125 hours [9,000 hours + 125 hours]. The rounded estimate is 9,200 hours.

Total Burden Cost (Capital/Startup)

The Department provides access to CSAT free of charge and the Department assumes that each respondent already has access to the internet for basic business needs.

As mentioned previously in this notice, the Department expects to revise the Top-Screen when this information collection is approved. The revised Top-Screen will enable the Department to begin using an improved tiering methodology that incorporates the relevant elements of risk, which was mandated by Section 2102(e)(2) of the Protecting and Securing Chemical Facilities from Terrorist Attacks Act of 2014 (the CFATS Act of 2014). As a result of the development of the new tiering methodology, the Department is considering requesting chemical facilities of interest that have chemical holdings at or above the screening threshold quantities on Appendix A of CFATS to complete the Top-Screen, even if the facility has previously completed a Top-Screen and been determined not to be high-risk. Between the effective date of CFATS in June 2007 and December 2014, the Department has received Top-Screens from approximately 36,930 unique facilities. Therefore the Department estimates that there will be a one-time capital/startup cost of $15,005,397.60 [36,930 facilities × 6 hours × $67.72 (average hourly wage rate for Site Security Officers)]. The rounded estimate is $15,005,400.

Total Recordkeeping Burden

A respondent that has submitted a Top-Screen may or may not be determined by the Department to present a high level of security risk. Only respondents that present a high level of security risk are required to keep records mandated by CFATS.

For respondents that ultimately are determined not to present a high level of security risk, the Department estimates any CFATS recordkeeping burden to be de minimis.

For respondents that are determined to present a high level of security risk, the Top-Screen recordkeeping burden is accounted for within the recordkeeping burden estimate for the “Site Security Plan (SSP) and Alternative Security Program (ASP) submitted in lieu of the Site Security Plan,” discussed later in this notice. The recordkeeping burden estimate for the “Site Security Plan (SSP) and Alternative Security Program (ASP) submitted in lieu of the Site Security Plan” accounts for all records respondents are required to maintain under CFATS because the Department assumes that respondents maintain their Top-Screen records and any other required records in the same manners, formats, and locations as they maintain their SSP/ASP records.

Total Annual Burden Cost

The 2007 CFATS Regulatory Evaluation assumes that Site Security Officers are responsible for submitting Top-Screens. For the purpose of this notice, the Department maintains this assumption.

Therefore, to estimate the total annual burden, the Department multiplied the annual burden of 9,125 hours by the average hourly wage rate of Site Security Officers of $67.72 per hour ⁹ and then added the one-time startup cost. Therefore, the total annual burden cost for the Top-Screen instrument is $15,623,342.60 [9,125 total annual burden hours x $67.72 per hour + $15,005,397.60]. The rounded estimate is $15,623,400.

⁹ The average hourly wage rate was based on an average hourly wage rate of $47.21 with a benefits multiplier of 1.43. The $47.21 rate was based on 2014 dollars using the Consumer Price Index (CPI). U.S. Department of Labor, Bureau of Labor Statistics; “Table 24. Historical Consumer Price Index for All Urban Consumers (CPI-U): U. S. city average, all;” Annual Average; July 2015. Available at: http://www.bls.gov/cpi/tables.htm, last accessed on September 9, 2015.

The Department's Methodology in Estimating the Burden for the Security Vulnerability Assessment (SVA) & Alternative Security Program (ASP) Submitted in Lieu of the Security Vulnerability Assessment

Number of Respondents

The current information collection estimated that 740 respondents would complete an SVA/ASP annually during CY 2012-2014 that had not previously submitted an SVA/ASP. The number of respondents was derived by a two-step process. The first step estimated the expected number of SVAs/ASPs by multiplying the estimated number of Top-Screens in each CY by the percentage of Top-Screens that resulted in a determination by the Department that an SVA or ASP in lieu of an SVA must be submitted by a respondent (i.e., a covered chemical facility). When the current information collection was approved in September of 2014, that rate was 29.6 percent. The estimated number of SVAs or ASPs in lieu of SVAs that must be submitted by respondents was then averaged. See the table below for estimates.

Table 2—SVA/ASP Respondent Estimates in Current Information Collection Based on Top-Screen Respondents
| Year 1 CY 2012 | Year 2 CY 2013 | Year 3 CY 2014 | Total | Average annual
Estimated number of Top-Screen Respondents in the current information collection | 2,500 | 2,500 | 2,500 | 7,500 | 2,500
Estimated number of SVA/ASP Respondents in the current information collection | 740 | 740 | 740 | 2,220 | 740

In actuality, during CY2012-2014, there were 633 respondents (i.e., chemical facilities of interest) that submitted an SVA/ASP for the first time. This information is displayed in Table 3 below:

Table 3—SVA/ASP Respondents
[Estimated versus actual]
| Year 1 CY 2012 | Year 2 CY 2013 | Year 3 CY 2014 | Total
Estimated number of SVA/ASP respondents in the current information collection | 740 | 740 | 740 | 2,220
Actual Number of Respondents | 136 | 315 | 182 | 633

The Department is satisfied that the methodology to estimate the number of respondents is reasonable because the percentage of Top-Screens that resulted in a determination by the Department that an SVA or ASP in lieu of an SVA was relatively stable. Historical data from the Department during CY 2012-2014 revealed that the percentage of Top-Screens that subsequently resulted in a determination that an SVA or ASP in lieu of an SVA must be submitted by a respondent was 21.1 percent. This is a small change from the previous percentage of 29.6 percent. The estimated number of SVAs or ASPs in lieu of SVAs that must be submitted by respondents was determined by CY and then averaged. Therefore, for the purposes of this notice, the number of SVA/ASP respondents is 211 [1,000 Top-Screen Respondents x 0.211]. The Department opted to not round the estimate. See table below.

Table 4—SVA/ASP Respondents Estimates in This Notice Based on Top-Screen Respondents
| Year 1 CY 2012 | Year 2 CY 2013 | Year 3 CY 2014 | Total | Average annual
Estimated number of Top-Screen responses in this notice | 1,000 | 1,000 | 1,000 | 3,000 | 1,000
Estimated number of SVA/ASP responses in this notice | 211 | 211 | 211 | 633 | 211

Estimated Time per Respondent

The current information collection estimated the time per respondent for preparing and submitting an SVA/ASP to be 65 hours. This estimate assumed that the majority of the burden associated with the SVAs/ASPs was outside of the Department's ability to quantitatively measure. However, by using the data collected during CY 2012-2014, the Department was able to measure the duration a respondent was logged into the SVA/ASP application. Based upon actual historical data, the Department determined that 95 percent of respondents who submitted SVAs were logged into the CSAT SVA/ASP application for no more than 5.3 hours.

The Department expects to implement a revised SVA/ASP with the approval of this information collection. The Department expects that as a result of the revised SVA/ASP respondents will spend 90 percent less time logged into the SVA/ASP application because the revised SVA/ASP will (1) have duplicative questions removed that exist in the SSP/ASP; (2) a few questions will be moved to the Top-Screen to support the improved tiering methodology; and (3) the attack scenarios and related questions will also be removed.

In response to previous comments provided by stakeholders in the last round of public comments on this Information Collection, the Department estimates that for every hour a respondent is logged into the CSAT SVA/ASP application, it spends an average of four hours in preparation. Therefore, for the purpose of this notice, the Department's estimated time per respondent to submit an SVA/ASP is 2.65 hours [(5.3 hours × 0.1) + (5.3 hours × 0.1) × 4 hours].¹⁰

¹⁰ The numerical value of 0.1 is used to reflect that 90% reduction of time a respondent is expected to be logged into the CSAT SVA/ASP.

During CY 2012-2014, for every initial submission of an SVA, respondents generally submit two additional SVA/ASPs. However, the Department believes that the reasons for this higher than expected resubmission rate have been addressed and will not be repeated. Therefore, the Department anticipates that only 50 percent of the respondents will submit two SVA/ASPs.¹¹

¹¹ The Department analyzed the amount of time a respondent was logged into CSAT when submitting an initial SVA/ASP versus an additional SVA/ASP and determined that additional SVAs/ASPs took 3% more time on average than initial SVAs/ASPs. The Department, for the purposes of this notice, opted not to break out the initial and subsequent SVAs/ASPs to analyze the minimal burden difference.

The Department also collects supporting documentation from approximately half of the respondents. Based upon the Department's day-to-day informal discussions with respondents, the Department believes that a reasonable burden for gathering and provision of supporting documentation is 0.25 hours per respondent.

Annual Burden Hours

The annual burden hours for an SVA/ASP is 838.725 hours [211 respondents × 2.65 hours × 1.5 responses per respondent].

The annual burden estimate to obtain supporting documentation is 26.375 hours [0.25 hours × 211 respondents × 0.5 × 1 response per respondent].

Therefore, the Department estimates that the total annual burden in hours for the SVA/ASP is 865.10 hours [838.725 hours + 26.375 hours]. The rounded estimate is 900 hours.

Total Burden Cost (Capital/Startup)

The Department provides access to CSAT free of charge, and the Department assumes that each respondent already has access to the internet for basic business needs. Therefore, for the purposes of this notice, the Department estimates that there are no capital/startup costs.

Total Recordkeeping Burden

A respondent that has submitted an SVA/ASP may or may not be determined by the Department to present a high level of security risk. Only respondents that present a high level of security risk have a recordkeeping requirement.

For respondents that ultimately are determined not to present a high level of security risk, the Department estimates any CFATS recordkeeping burden to be de minimis.

For respondents that are determined to present a high level of security risk, the SVA recordkeeping burden is accounted for within the recordkeeping burden estimate for the “Site Security Plan (SSP) and Alternative Security Program (ASP) submitted in lieu of the Site Security Plan,” discussed later in this notice. The recordkeeping burden estimate for the “Site Security Plan (SSP) and Alternative Security Program (ASP) submitted in lieu of the Site Security Plan” accounts for all records respondents are required to maintain under CFATS because the Department assumes that respondents maintain their Top-Screen records and any other required records in the same manners, formats, and locations as they maintain their SSP/ASP records.

Total Annual Burden Cost

The 2007 CFATS Regulatory Evaluation assumes that Site Security Officers will be responsible for submitting SVA/ASPs. For the purpose of this notice, the Department maintains this assumption.

The total annual burden cost for the SVA/ASP is $58,584.57 [865.10 total annual burden hours × $67.72 (average hourly wage rate for Site Security Officers)]. The rounded estimate is $58,600.

The Department's Methodology in Estimating the Burden for Site Security Plan (SSP) & Alternative Security Program (ASP) Submitted in Lieu of the Site Security Plan

Number of Respondents

The current information collection estimated that 486 respondents would complete an SSP/ASP annually during CY 2012-2014 that had not previously submitted an SSP/ASP. In actuality, during CY2012-2014, there were 336 respondents that submitted an SSP/ASP for the first time.¹² This information is displayed in Table 5 below:

¹² Between 2012 and 2014, the Department made substantial progress in addressing the number of SSP/ASPs received prior to 2012 from covered chemical facilities. The Department received 2,721 SVA/ASPs during CY2012 through CY2014 (i.e., 103 revised SSP/ASP in 2012, 1,026 revised SSP/ASPs in 2013, and 1,592 SSP/ASPs in 2014). The Department accounts for the cost of resubmitted SVA/ASPs in the next section titled, “Estimated Time Per Respondent.”

Table 5—SSP/ASP Respondents
[Estimated versus actual]
| Year 1 CY 2012 | Year 2 CY 2013 | Year 3 CY 2014 | Total
Estimated number of SSP/ASP respondents in the current information collection | 486 | 486 | 486 | 1,458
Actual Number of Respondents | 0 | 118 | 218 | 336

The Department expects to revise both the SVA/ASP and the SSP/ASP with this information collection. One of the expected outcomes of revisions is that potentially 100 percent of respondents to the SVA/ASP will be a respondent of the SSP/ASP, due to the improved tiering methodology that will be implemented by the Department using data collected through the Top-Screen instrument. The Department anticipates both greater accuracy in the initial tiering determination and also substantially greater confidence in the tiering result. Hence, while the Department reserves the right and ability to conduct a second tiering as described in 6 CFR 27.220, the Department anticipates relying on the results of initial tiering determination for the second tiering unless the Department identifies a reason for not doing so on a case by case basis. An important benefit of this approach is that the lengthy tiering process will be streamlined for the majority of respondents that previously would have been required to complete a second survey in order to receive a final determination of not high risk. These facilities would have to only complete the Top-Screen to get to the same determination. For the purpose of estimating the number of respondents that will complete an SSP/ASP in this notice, the Department will make it equal to the number of SVA/ASP respondents, 211 respondents, because all SVA/ASP respondents will be expected to subsequently complete the SSP/ASP.

The Department considered modifying the number of SSP/ASP respondents to account for submissions of SSPs due to requirements of Section 2102 of the Homeland Security Act of 2002, which among other actions, modifies CFATS by adding a new process by which a respondent, assigned to (risk-based) Tier 3 or Tier 4 by the Department, can meet its regulatory requirement to draft and implement a Site Security Plan through a new process called the “Expedited Approval Program.” The Department ultimately has not has opted to not adjust the number of respondents because: (1) Most Tier 3 and Tier 4 facilities have approved SSPs; and (2) to date the Department has received few notifications from Tier 3 and Tier 4 facilities indicating that they plan to use the Expedited Approval Program.

Estimated Time per Respondent

The current information collection estimated the time per respondent for preparing and submitting a SSP/ASP to be 225 hours. This estimate assumed that the majority of the burden associated with the SSPs/ASPs is outside of the Department's ability to quantitatively measure. However, by using the data during CY 2012-2014, the Department was able to measure the duration a respondent was logged into the SSP/ASP application. The Department determined that 95 percent of respondents who submitted SSPs were logged into the CSAT SSP/ASP application for no more than 12.5 hours.

As mentioned earlier in this notice, the Department expects to revise the SSP/ASP when this information collection is approved. The Department expects that as a result of the revised SSP/ASP respondents will spend 70 percent less time logged into the SSP/ASP application because the SSP/ASP will (1) have duplicative and unnecessary questions removed that exist in the SVA/ASP (e.g., questions related to asset identification in the SSP) and import relevant answers from the SVA/ASP, and (2) reorganize the SSP/ASP questions in a streamlined process based upon the Department's experience with respondents over the past several years. The reorganization of SSP/ASP questions will allow the Department to also remove repetitive questions

In response to previous comments provided by stakeholders in the last round of public comments on this Information Collection, the Department estimates that for every hour a respondent is logged into the CSAT SSA/ASP application, it spends an average of four hours in preparation. Therefore, for the purpose of this notice, the Department's estimated time per respondent to submit an SSP/ASP is 18.75 hours. [(12.5 hours × 0.3) + ((12.5 hours × 0.3) × 4 hours)].¹³ The rounded estimate is 18.75 hours.

¹³ The numerical value of 0.3 is used to reflect that 70% reduction of time a respondent is expected to be logged into the CSAT SSP/ASP.

As mentioned earlier in this notice, there was a higher than expected resubmission of SSP/ASPs. In fact during CY 2012-2014, there were 2,721 SSP/ASPs resubmitted. The vast majority of the resubmissions were submitted by respondents who has submitted an initial SSP/ASP prior to CY 2012. To account for the increased resubmission of SSP/ASPs by respondents, the Department estimates that each respondent will submit an additional SSP/ASP.¹⁴

¹⁴ The Department analyzed the amount of time a respondent was logged into CSAT when submitting an initial SSP/ASP versus an additional SSP/SVP and determined that additional SVA/ASPs took 14% less time on average than initial SSP/ASPs. The Department, for the purposes of this notice, opted not to break out the initial and subsequent SSP/ASPs to analyze the minimal burden difference.

The Department also collects supporting documentation from approximately half of the respondents. Based upon the Department's day-to-day informal discussions with respondents, the Department believes that a reasonable burden for the gathering and provision of supporting documentation is 0.25 hours per respondent.

Annual Burden Hours

The annual burden hours for SSP/ASP submission is 7,912.50 hours [18.75 hours × 211 SSP/ASP respondents × 2 response per respondent].

The annual burden hours for obtaining supporting documentation is 26.3750 hours [0.25 hours × (0.5 × 211 SSP/ASP respondents) × (one response per respondent)].

Therefore, the Department estimates that the total annual burden hours for SSP/ASP submission is 7,938.8750 hours [7,912.50 hours + 26.3750 hours]. The rounded estimate is 8,000 hours.

Total Burden Cost (Capital/Startup)

The Department provides access to CSAT free of charge, and the Department assumes each respondent already has access to the internet for basic business needs. Therefore, for the purposes of this notice, the Department estimates that there are no capital/startup costs.

Total Recordkeeping Burden

The recordkeeping burden estimate for the “Site Security Plan (SSP) and Alternative Security Program (ASP) submitted in lieu of the Site Security Plan” accounts for the recordkeeping burden high-risk chemical facilities are required to maintain under CFATS, including SSP and ASP records because the Department assumes that respondents maintain their records and any other required records in the same manners, formats, and locations as they maintain their SSP/ASP records. Therefore, the Department believes it is reasonable to estimate the recordkeeping burden for all respondents under the recordkeeping burden for the “Site Security Plan (SSP) and Alternative Security Program (ASP) submitted in lieu of the Site Security Plan.”

Records maintained under CFATS, including SSP/ASP records and other records listed at 6 CFR 27.255, may be kept in electronic or paper formats as long as they are reasonably protected. For the purpose of this notice, the Department assumes that all respondents will purchase a locked filing cabinet to maintain records at a cost of $350 each. In addition, respondents that use paper records will also incur the cost of additional paper and printer ink/toner. The Department assumes an additional box of paper ($50) and additional printer ink/toner supplies ($200). Thus, the physical cost related to record keeping for each SSP/ASP respondent is $600 (i.e., $350 for the filing cabinet plus $250 for paper and toner) for the first year and $250 per year for the second and third year. Thus, the annual average cost, for physical costs related to paper-based recordkeeping, is $367 per SSP/ASP.

Table 6—SSP/ASP Paper-Based Recordkeeping Costs
| Locked filing cabinet cost | Paper and ink/toner Cost | Year 1 cost | Year 2 cost | Year 3 cost | Average annual cost
SSP/ASP | $350 | $250 | $600 | $250 | $250 | $367 (rounded).

The Department assumes that clerical staff will spend 48 hours per year (four hours per month) maintaining records, such as filing, binding, etc. For the purpose of this notice the Department used the wage rate of $37.51 per hour.¹⁵ Thus, the Department estimates the labor related to paper-based recordkeeping burden is $1,800.48 per SSP/ASP [48 hours × $37.51].

¹⁵ The average hourly wage rate was based on an average hourly wage rate of $26.15 with a benefits multiplier of 1.43. The $37.51 rate was based on 2014 dollars using the Consumer Price Index (CPI). U.S. Department of Labor, Bureau of Labor Statistics; “Table 24. Historical Consumer Price Index for All Urban Consumers (CPI-U): U.S. city average, all;” Annual Average; July 2015. Available at: http://www.bls.gov/cpi/tables.htm, last accessed on September 9, 2015.

Alternatively, although it is not required, businesses may keep their records electronically. Under this scenario, the Department maintains its assumption that a small number of respondents (i.e., 5 percent) will purchase a computer loaded with basic spreadsheet software. For the purpose of this notice, the Department assumes that 5 percent of respondents will purchase a computer and printer to maintain records at a total cost of $1,000. Thus, the annual average cost for physical costs related to electronic-based recordkeeping is $333 (rounded) per SSP/ASP.

The Department assumes that there will be a larger time commitment for updating records and inputting data into a spreadsheet. Hence, the Department maintains its estimate of six hours per month to maintain electronic records. Thus, the Department estimates the labor related to electronic-based recordkeeping burden is $2,700.72 [72 hours × $37.51 (average hourly wage rate for clerical staff)].

Therefore, for the purposes of this notice, the Department estimates that the annual recordkeeping burden is $438,744.116 [($367 + $1,800.48) × (0.95 × 211 SSP/ASP respondents) + [($333 + $2,700.72) × (0.05 × 211 SSP/ASP respondents)]. The rounded estimate is $438,800.

Total Annual Burden Cost

The total annual burden cost for the SSP/ASP is $976,364.731 [7,938.8750 hours multiplied by $67.72 (average hourly wage rate for Site Security Officers) + $438,744.116 (total annual recordkeeping burden)]. The rounded estimate is $976,400.

The Department's Methodology in Estimating the Burden for the Helpdesk

Number of Respondents

The Department evaluated the historical data to determine if the current information collection estimate of 15,000 respondents continued to be an appropriate estimate for Helpdesk. During CY 2012-2014, the Helpdesk accepted 30,452 calls and 12,246 emails.

Table 7—Helpdesk Respondents
[Estimated versus actual]
| Year 1 CY 2012 | Year 2 CY 2013 | Year 3 CY 2014 | Total | Average annual
Estimated number of Respondents in current information collection | 15,000 | 15,000 | 15,000 | 45,000 | 15,000.
Actual number of Respondents (phone calls and e-mails) | 9,530 | 15,802 | 17,366 | 42,698 | 14,233 (rounded).

The actual average annual number of respondents for this time period was 14,233 respondents (calls and emails). The Department will maintain the estimated number of respondents of 15,000, based on actual historical data.

Estimated Time per Respondent

The Department evaluated the historical data to determine if the estimated time per respondent of 0.17 hours (10 minutes) continued to be an appropriate estimate. During CY 2012-2014, the actual average Helpdesk call averaged less than eight minutes.

Table 8—Helpdesk Call Time Averages
| Year 1 CY 2012 | Year 2 CY 2013 | Year 3 CY 2014
Actual Average Call Time (minutes) | 7:38 | 8:09 | 7:15

The Department does not have any information about the average amount of time it took respondents to type and send the 12,246 emails during CY 2012-2014.

Therefore, for the purpose of this notice, the Department has maintained the estimated time per respondent of 0.17 hours.

Annual Burden Hours

The annual burden hours for the Helpdesk will be 2,550 hours [0.17 hours × 15,000 respondents].

Total Burden Cost (Capital/Startup)

Contacting the CFATS Helpdesk is free, and the Department assumes that each respondent already has a phone and/or access to the internet for basic business needs. Therefore, for the purposes of this notice, the Department estimates that there are no capital/startup costs.

Total Recordkeeping Burden

There is no recordkeeping burden when contacting the CSAT Helpdesk.

Total Annual Burden Cost

The total burden for the Helpdesk is $172,686 [2,550 annual burden hours × $67.72 (average hourly rate for Site Security Officers)]. The rounded estimate is $172,700.

The Department's Methodology in Estimating the Burden for the User Registration

Number of Respondents

The current information collection estimated 625 respondents would complete the user registration process annually. That estimate is based on the assumption that the number of respondents for User Registration will be one-fourth of the number of respondents for the Top-Screen. During CY 2012-2014, the actual number was 3033 respondents.

Table 9—User Management Respondents
[Estimated versus actual]
| Year 1 CY 2012 | Year 2 CY 2013 | Year 3 CY 2014 | Total | Average annual
Estimated number of Respondents in current information collection | 625 | 625 | 625 | 1,875 | 625
Actual number of Respondents | 510 | 1704 | 819 | 3033 | 1,011

The Department expects the actual number of respondents to fluctuate. However, for the purposes of this notice the Department estimates the number of respondents is 1000 annually.

Estimated Time per Respondent

In the current information collection, the estimated time per respondent is two hours. The Department will maintain the assumption that two hours is an adequate amount of time for the respondent to (1) complete the online CSAT User Registration process, and subsequently (2) collect and submit the necessary signatures on the user access agreement.

Annual Burden Hours

The annual burden estimate for User Registration is 2,000 hours [2 hours × 1000 respondents].

Total Burden Cost (Capital/Startup)

The Department assumes that each respondent already has a fax capability and access to the internet for basic business needs. However, the Department expects to be revising the CSAT User Management application to reduce the burden on respondents and improve the functionality of the CSAT User Management application. The Department expects that there will be a one-time burden for all existing CSAT Users when the CSAT User Management application is updated. The Department expects the one-time burden to be 0.17 hours (10 minutes) per CSAT user. As of September 2015, there were 24,630 active CSAT accounts; therefore, the Department estimates that there will be a capital/startup cost of $283,550.4120 [24,630 Active CSAT users × 0.17 hours × $67.72 (average hourly rate for Site Security Officers)]. The rounded estimate is $283,600.

Total Recordkeeping Burden

There is no recordkeeping burden for submitting a User Registration application.

Total Annual Burden Cost

The total burden for User Registration is $418,990.4120 [2,000 annual burden hours × $62.72 (average hourly rate for Site Security Officers) + $283,550.4120 (Capital/Startup Burden Cost)]. The rounded estimate is $419,000.

The Department's Methodology in Estimating the Burden for Identification of Additional Facilities and Assets At Risk

Number of Respondents

The Department may collect information from each respondent of a SSP/ASP under this instrument. Respondents are not required to provide this information to the Department for purposes of complying with any portion of CFATS. The Department estimates the number of respondents to this instrument will be equal to the number of respondents to the SSP/ASP, or 211 respondents.

Estimated Time per Respondent

This instrument will request information from covered chemical facilities about their chemical of interest supply and distribution chain or other information about their business operations to allow the Department to potentially identify either potential chemical facilities of interest or potential assets at risk at the covered chemical facility. Participation in this collection will be voluntary and respondents will not be required to provide this information to the Department for purposes of complying with any portion of CFATS. The Department expects the estimated time per respondent is 0.17 hours (10 minutes).

Annual Burden Hours

The annual burden estimate is 35.87 hours [0.17 hours × 211 respondents]. The rounded estimate is 40 hours.

Total Burden Cost (Capital/Startup)

The Department expects a one-time burden for covered chemical facilities with an approved SSP/ASP. There are approximately 3000 covered chemical facilities regulated under CFATS.¹⁶ Therefore, the Department estimates that there will be a one-time capital/startup cost of $34,537.20 [3000 covered chemical facilities × 0.17 hours × $67.72 (average hourly wage rate for Site Security Officers)]. The rounded estimate is $34,600.

¹⁶ The number of covered chemical facilities fluctuates. For the purposes of this notice 3,000 represents a reasonable estimate to estimate the burden this instrument could impose.

Total Recordkeeping Burden

There is no recordkeeping burden for this instrument.

Total Annual Burden Cost

The total burden for the identification of additional potential chemical facilities of interest and assets at risk is $36,966.3164 [35.87 annual burden hours × $67.72 (average hourly rate for Site Security Officers) + $34,537.20 (Capital/Startup Burden Cost)]. The rounded estimate is $37,000.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology (e.g., permitting electronic submissions of responses).

Analysis:

Agency: Department of Homeland Security, National Protection and Programs Directorate, Office of Infrastructure Protection, Infrastructure Security Compliance Division.

Title: Chemical Security Assessment Tool.

OMB Number: 1670-0007.

Instrument: CSAT Top-Screen.

Frequency: “On occasion” and “Other.”

Affected Public: Business or other for-profit.

Number of Respondents: 1,000 respondents (estimate).

Estimated Time per Respondent: 6.00 hours.

Total Burden Hours: 9,200 hours.

Total Burden Cost (capital/startup): $15,005,400.

Total Recordkeeping Burden: $0.

Total Burden Cost: $15,623,400.

Instrument: Security Vulnerability Assessment and Alternative Security Program submitted in lieu of the Security Vulnerability Assessment.

Frequency: “On occasion” and “Other.”

Affected Public: Business or other for-profit.

Number of Respondents: 211 respondents.

Estimated Time per Respondent: 2.65 hours.

Total Burden Hours: 900 hours.

Total Burden Cost (capital/startup): $0.

Total Recordkeeping Burden: $0.

Total Burden Cost: $58,600.

Instrument: Site Security Plan and Alternative Security Program submitted in lieu of the Site Security Plan.

Frequency: “On occasion” and “Other.”

Affected Public: Business or other for-profit.

Number of Respondents: 211 respondents.

Estimated Time per Respondent: 18.75 hours.

Total Burden Hours: 8,000 hours.

Total Burden Cost (capital/startup): $0.

Total Recordkeeping Burden: $438,800.

Total Burden Cost: $976,400.

Instrument: CFATS Helpdesk.

Frequency: “On occasion” and “Other.”

Affected Public: Business or other for-profit.

Number of Respondents: 15,000 respondents.

Estimated Time per Respondent: 0.17 hours.

Total Burden Hours: 2,550 annual burden hours.

Total Burden Cost (capital/startup): $0.

Total Recordkeeping Burden: $0.

Total Burden Cost: $172,700.

Instrument: CSAT User Registration.

Frequency: “On occasion” and “Other.”

Affected Public: Business or other for-profit.

Number of Respondents: 1000 respondents.

Estimated Time per Respondent: 2 hours.

Total Burden Hours: 2,000 hours.

Total Burden Cost (capital/startup): $283,600.

Total Recordkeeping Burden: $0.

Total Burden Cost: $419,000.

Instrument: Identification of Facilities and Assets At Risk.

Frequency: “On occasion” and “Other.”

Affected Public: Business or other for-profit.

Number of Respondents: 211 respondents.

Estimated Time per Respondent: 0.17 hours.

Total Burden Hours: 40 hours.

Total Burden Cost (capital/startup): $34,600.

Total Recordkeeping Burden: $0.

Total Burden Cost: $37,000.

Dated: October 30, 2015.
Scott Libby,
Deputy Chief Information Officer, National Protection and Programs Directorate, Department of Homeland Security.

[FR Doc. 2015-29457 Filed 11-17-15; 8:45 am]

BILLING CODE 9110-9P-P